GENERAL SERVICES ADMINISTRATION

[FMR Bulletin PBS-2007-B3]

Federal Management Regulation; Redesignations of Federal Buildings

AGENCY: Public Buildings Service (P), GSA

ACTION: Notice of a bulletin.

SUMMARY: The attached bulletin announces the redesignations of (6) Federal Buildings.

EXPIRATION DATE: This bulletin expires January 1, 2008. However, the building redesignation announced by this bulletin will remain in effect until canceled or superseded.

FOR FURTHER INFORMATION CONTACT: General Services Administration, Public Buildings Service (P), Attn: Anthony E. Costa, 1800 F. Street, NW., Washington, DC 20405, e-mail at anthony.costa@gsa.gov. (202) 501-1100.

Dated: July 25, 2007
LURITA DOAN,
Administrator of General Services

U.S. GENERAL SERVICES ADMINISTRATION

FMR BULLETIN PBS-2007-B3

REDESIGNATIONS OF FEDERAL BUILDINGS

TO: Heads of Federal Agencies

SUBJECT: Redesignations of Federal Buildings

1. What is the purpose of this bulletin? This bulletin announces the redesignations of (6) Federal Buildings.

2. When does this bulletin expire? This bulletin expires January 1, 2008. However, the building redesignations announced by this bulletin will remain in effect until canceled or superseded.

3. Redesignations. The former and new names of the redesignated buildings are as follows:

Former Name | New Name
United States Courthouse, 555 Independence Street, Cape Girardiau, MO 63703 | Rush Hudson Limbaugh, Sr. United States Courthouse, 555 Independence Street, Cape Girardeau, MO 63703
United States Courthouse, 106 South Federal Plaza, Santa Fe, NM 87501 | Santiago E. Campos United States Courthouse, 106 South Federal Plaza,Santa Fe, NM 87501
Department of Education Building, 400 Maryland Avenue, SW., Washington, DC 20202 | Lyndon Baines Johnson Department of Education Building, 400 Maryland Avenue, SW., Washington, DC 20202
Clifford Davis Federal Building, 167 North Main Street, Memphis, TN 38103 | Clifford Davis and Odell Horton Federal Building, 167 North Main Street, Memphis, TN 38103
Federal Building and United States Courthouse and Customhouse, 515 West First Street, Duluth, MN 55802 | Gerald W. Heany Federal Building and United States Courthouse and Customhouse, 515 West First Street, Duluth, MN 55802
United States Courthouse, 2500 Tulare Street, Fresno, CA 93721 | Robert E. Coyle United States Courthouse, 2500 Tulare Street, Fresno, CA 93721

4. Who should we contact for further information regarding redesignation of these Federal Buildings? U.S. General Services Administration, Public Buildings Service (P),Attn: Anthony E, Costa, 1800 F. Street, NW., Washington, DC 20405, telephone number: (202) 501-1100, e-mail at anthony.costa@gsa.gov.

[FR Doc. E7-15989 Filed 8-16-07; 8:45 am]

BILLING CODE 6820-23-S